SUSQUEHANNA RIVER BASIN COMMISSION

Projects Rescinded for Consumptive Uses of Water

AGENCY: Susquehanna River Basin Commission.

ACTION: Notice.

SUMMARY: This notice lists the approved by rule projects rescinded by the Susquehanna River Basin Commission during the period set forth in DATES.

DATES: March 1 through March 31, 2013.

ADDRESSES: Susquehanna River Basin Commission, 1721 North Front Street, Harrisburg, PA 17102-2391.

FOR FURTHER INFORMATION CONTACT: Richard A. Cairo, General Counsel, telephone: (717) 238-0423, ext. 306; fax: (717) 238-2436; email: rcairo@srbc.net. Regular mail inquiries may be sent to the above address.

SUPPLEMENTARY INFORMATION: This notice lists the projects, described below, being rescinded for the consumptive use of water pursuant to the Commission's approval by rule process set forth in 18 CFR 806.22(e) and 806.22(f) for the time period specified above:

Rescinded ABR Issued March 1-31, 2013

1. Norse Energy Corp USA, Pad ID: Aarismaa #1, ABR-20100666, Preston Town, Chenango County, NY; Rescind Date: March 18, 2013.

2. Norse Energy Corp USA, Pad ID: Anderson, C. #1, ABR-201007111, Coventry Town, Chenango County, NY; Rescind Date: March 18, 2013.

3. Norse Energy Corp USA, Pad ID: Byler, R. #1, ABR-20100627, Lebanon Town, Madison County, NY; Rescind Date: March 18, 2013.

4. Norse Energy Corp USA, Pad ID: Klecha, M. #1, ABR-201007108, Coventry Town, Chenango County, NY; Rescind Date: March 18, 2013.

5. Norse Energy Corp USA, Pad ID: Knapp, J. #1, ABR-201007107, Colesville Town, Broome County, NY; Rescind Date: March 18, 2013.

6. Norse Energy Corp USA, Pad ID: Krawiec #2, ABR-20100624, Smyrna Town, Chenango County, NY; Rescind Date: March 18, 2013.

7. Norse Energy Corp USA, Pad ID: Norse East #1, ABR-201007109, Afton Town, Chenango County, NY; Rescind Date: March 18, 2013.

8. Norse Energy Corp USA, Pad ID: Norse West #1, ABR-201007110, Afton Town, Chenango County, NY; Rescind Date: March 18, 2013.

9. Norse Energy Corp USA, Pad ID: Norse #3, ABR-201007112, Colesville Town, Broome County, NY; Rescind Date: March 18, 2013.

10. Norse Energy Corp USA, Pad ID: Stone #1, ABR-201007131, Coventry Town, Chenango County, NY; Rescind Date: March 18, 2013.

11. Norse Energy Corp USA, Pad ID: Thornhill #1, ABR-201007087, Colesville Town, Broome County, NY; Rescind Date: March 18, 2013.

Authority: Pub. L. 91-575, 84 Stat. 1509 et seq., 18 CFR parts 806, 807, and 808.

Dated: April 30, 2013.
Stephanie L. Richardson,
Secretary to the Commission.

[FR Doc. 2013-11136 Filed 5-9-13; 8:45 am]

BILLING CODE 7040-01-P